ADVISORY COUNCIL ON HISTORIC PRESERVATION

Draft Program Comment Regarding World War II and Cold War Era Army Ammunition Production Facilities and Plants

AGENCY: Advisory Council on Historic Preservation.

ACTION: Notice of intent to issue program comment on World War II and Cold War Era Army Ammunition Production Facilities and Plants.

SUMMARY: The Department of the Army (Army) is formulating its plan on how to manage its inventory of World War II (1939-1946) and Cold War (1946-1974) era Army Ammunition 1344 Production Facilities and Plants. In order to better meet its Federal historic preservation responsibilities in managing these properties, the Army has requested the Advisory Council on Historic Preservation (ACHP) to comment on the overall management of such properties, as opposed to submit each individual undertaking under such management to separate review. The Army and ACHP have drafted such a comment and now seek public input on it. ACHP will take into account this public input prior to deciding whether to issue the program comment.

DATES: Submit comments on or before May 12, 2006.

ADDRESSES: Address all comments concerning this proposed program comment to Dave Berwick, Army Program Manager, Office of Federal Agency Programs, Advisory Council on Historic Preservation, 1100 Pennsylvania Avenue, NW., Suite 809, Washington, DC 20004. Fax 202-606-8672. You may submit electronic comments to dberwick@achp.gov.

FOR FURTHER INFORMATION CONTACT: Dave Berwick (202) 606-8505.

SUPPLEMENTARY INFORMATION: Section 106 of the National Historic Preservation Act requires Federal agencies to consider the effects of their undertakings on historic properties and provide the Advisory Council on Historic Preservation (ACHP) a reasonable opportunity to comment with regard to such undertakings. ACHP has issued the regulations that set forth the process through which Federal agencies comply with these duties. Those regulations are codified under 36 CFR part 800 (“Section 106 regulations”).

Under Section 800.14(e) of those regulations, agencies can request ACHP to provide a “Program Comment” on a particular category of undertakings in lieu of conducting individual reviews of each individual undertaking under such category, as set forth in 36 CFR 800.4 through 800.6. An agency can meet its Section 106 responsibilities for those undertakings by taking into account ACHP's Program Comment and by following the steps set forth in those comments.

The Department of the Army (Army) has requested such a Program Comment to cover management of its World War II (WWII) and Cold War era Army Ammunition Production Facilities and Plants. A copy of the draft Program Comment can be found at the end of this notice. Once the public input resulting from this notice is considered, ACHP will decide whether to issue a final Program Comment to the Army.

Background on WWII and Cold War ERA Army Ammunition Production Facilities and Plans

Beginning in 1940, the Ordnance Department, one of the seven Army technical services that were the forerunners of the present-day U.S. Army Materiel Command (AMC), established industrial facilities in order to carry out its mission of supplying ordnance to the United States Army Ground Forces, the Navy, the Coast Guard, the Marine Corps and numerous foreign countries. A majority of these facilities were Government-Owned Contractor-Operated (GOCO), and approximately 30 survive as Army ammunition plants (AAPs) in the inventory of AMC. Over the years, many of the original plants fell into disuse and were closed. Others were updated to meet the changing needs of different periods of conflict including the Cold War. Historians agree that U.S. ammunition production was of enormous importance to the Allied victory in World War II based in part on the technologies developed; the efficiency of production facilities, aided in large part by input from U.S. industries; and the sheer firepower developed. A large percentage of the buildings and structures associated with these facilities were built based on standardized plans known as “typical” or “ideal” plans. Variations were carried out at the individual installations to account for differences in sites and specific production needs. In addition, temporary mobilization plans such as the 700- and 800-series plans were used for a variety of buildings at ammunition production facilities during WWII. The 700- and 800-series designs were the standardized plans used for quickly constructing the temporary military facilities that were needed for mobilization. The 700-series plans were developed in the intervening period between WWI and WWII. Both plans were used during WWII, with some mobilizations camps combining buildings from both plans.

Many of these WWII production facilities were used for Cold War ordnance development and remained active for years thereafter. A few Cold War-era facilities were newly constructed in the 1950s. Over the years these ammunition production facilities and plants were either transformed to keep up with changing technological needs or were left unused as technology and usefulness passed them by. Today, many are active, working facilities while others lie dormant until such time as they are required for future use or are determined excess.

Army records indicate that there are 10,933 WWII and Cold War Era Army ammunition production facilities and plants, including associated buildings, structures, and utilities, located within approximately 30 installations nationwide. The Army has requested that the Program Comment apply to all WWII and Cold War Era ammunition production facilities and plants and associated buildings, structures, and utilities. The WWII and Cold War Era Army ammunition plants were built as complete installations, containing not only the ammunition production facilities themselves, but also housing, storage, administration buildings, and associated structures. Most ammunition production facilities and plants from the World War II era were GOCO facilities, built for the Ordnance Department as Ordnance Works.

The Army anticipates that all of its WWII and Cold War era Army Ammunition Production Facilities and Plants will be subject to the following categories of undertakings: Ongoing operations, maintenance and repair, rehabilitation, renovation, mothballing, cessation of maintenance, new construction, demolition, deconstruction and salvage, remediation activities, and transfer, sale, lease, and/or closure. The Army is requesting that the ACHP issue a Program Comment on the effects of these categories of undertakings on all WWII and Cold War Era Army Ammunition Production Facilities and Plants, including associated buildings, structures, and utilities.

The proposed action will cover approximately 10,933 buildings and structures. The Department of Defense (DoD) has requested a similar program comment to cover all WWII and Cold War Era Ammunition Storage Facilities. If approved, the DoD Program Comment will cover an additional 5,421 associated ammunition storage buildings at Army Ammunition Plants.

The categories of undertakings listed above are anticipated to occur as Army management activities continue. Therefore, there is a potential for adverse effects to historic ammunition production facilities and plants.

Text of the Draft Program Comment

The following is the full text of the draft Program Comment:

Program Comment for World War II and Cold War Era Army Ammunition Production Facilities and Plants

I. Introduction

This Program Comment provides the Department of the Army (Army) with an alternative way to comply with its responsibilities under Section 106 of the National Historic Preservation Act with regard to the effect of the following management actions on World War II (WWII) and Cold War Era Army Ammunition Production Facilities and Plants that may be listed or eligible for listing on the National Register of Historic Places: Ongoing operations, maintenance and repair, rehabilitation, renovation, mothballing, cessation of maintenance, new construction, demolition, deconstruction and salvage, remediation activities, and transfer, sale, lease, and closure of such facilities.

In order to take into account the effects on WWII and Cold War Era Army Ammunition Production Facilities and Plants (Facilities and Plants), the Army will conduct documentation in accordance with The Secretary of the Interior's Standards and Guidelines for Archeology and Historic Preservation.

II. Treatment of Properties

A. Army Mitigation

1. The Army has an existing context study, Historic Context for the World War II Ordnance Department's Government-Owned Contractor-Operated (GOCO) Industrial Facilities 1939-1945 as well as documentation of nine World War II GOCO Plants.

2. The Army will prepare a supplemental volume that revises and expands the existing context to include the Cold War Era (1946-1974). The updated context study will:

—Focus on the changes that the plants underwent to address changing weapons technology and defense needs; and

—Identify prominent architect-engineer firms that may have designed architecturally significant buildings for Army Ammunition Plants.

3. The Army will prepare documentation that generally comports with the appropriate HABS/HAER standards for documentation for selected architecturally significant Facilities and Plants at two installations. This documentation will be similar to and follow the format of the existing documentation described in section II.A.1, above.

4. Upon completion of the documentation, the Army will then make the existing documentation of the nine WWII GOCO Army Ammunition Plants and the WWII GOCO context and the new documentation, to the extent possible under security concerns, available in electronic format to Federal and State agencies that request it.

5. In addition, as a result of on-going consultations with stakeholders, the Army will provide a list of properties covered by the Program Comment, by state, to the National Conference of State Historic Preservation Officers and the Advisory Council on Historic Preservation.

6. The Army will also develop additional public information on the Army ammunition process, from production through storage, to include:

—A display that can be loaned to one of the Army's museums, such as the Ordnance Museum at Aberdeen Proving Ground, or used at conferences; and

—A popular publication on the ammunition process to accompany the display.

Copies of this information will be available electronically, to the extent possible under security concerns, and hard copies will be placed in a permanent repository, such as the Center for Military History.

7. The Army will encourage adaptive reuse of the properties when feasible, as well as the use of historic tax credits by private developers under lease arrangements. The Army should also incorporate adaptive reuse and preservation principles into master planning documents and activities.

The above actions satisfy the Army's requirement to take into account the effects of the following management actions WWII and Cold War-era Army ammunition plants and production facilities that may be listed or eligible for listing on the National Register of Historic Places: Ongoing operations, maintenance and repair, rehabilitation, renovation, mothballing, cessation of maintenance activities, new construction, demolition, deconstruction and salvage, remedial activities, and transfer, sale, lease and/or closure of such facilities.

III. Applicability

A. This Program Comment applies solely to WWII and Cold War Era Army ammunition production facilities and plants. The Program Comment does not apply to the following properties that are listed, or eligible for listing, on the National Register of Historic Places: (1) Archeological properties, (2) properties of traditional religious and cultural significance to federally recognized Indian tribes or Native Hawaiian organizations, and/or (3) ammunition production facilities in National Register of Historic Places districts where the ammunition production facility is a contributing element of the district and the proposed undertaking has a potential to adversely affect such historic district. This third exclusion does not apply to historic districts that are entirely within the boundaries of an ammunition production plant. In those cases the Program Comment would be applicable to such districts.

B. An installation with an existing Section 106 agreement document that addresses WWII and Cold War-era ammunition plants and production facilities can choose to:

1. Continue to follow the stipulations in the existing agreement document for the remaining period of the agreement; or

2. Seek to amend the existing agreement document to incorporate, in whole or in part, the terms of this Program Comment; or

3. Terminate the existing agreement document and re-initiate consultation informed by this Program Comment, if necessary.

C. All future Section 106 agreement documents developed by Army installations related to undertakings and properties addressed in this Program Comment shall include appropriate provisions detailing whether and how the terms of the Program Comment apply to such undertakings.

IV. Completion Schedule

On or before 60 days following issuance of the Program Comment, the Army and ACHP will establish a schedule for completion of the treatments outlined above.

V. Effect of the Program Comment

By following this Program Comment, the Army has met its responsibilities for compliance under Section 106 regarding the effect of the following management actions on WWII and Cold War Era Army Ammunition Production Facilities and Plants that may be listed or eligible for listing on the National Register of Historic Places: ongoing operations, maintenance and repair, rehabilitation, renovation, mothballing, cessation of maintenance, new construction, demolition, deconstruction and salvage, remediation activities, and transfer, sale, lease, and closure of such facilities. Accordingly, the Army will no longer be required to follow the case-by-case Section 106 review process for such effects.

VI. Duration and Review of the Program Comment

This Program Comment will remain in effect until such time as Headquarters, Department of the Army determines that such comments are no longer needed and notifies ACHP in writing, or ACHP withdraws the comments in accordance with 36 CFR 800.14(e)(6). Following such withdrawal, the Army would be required to comply with the requirements of 36 CFR 800.3 through 800.7 regarding the effects under this Program Comments' scope.

Headquarters, Department of the Army and ACHP will review the implementation of the Program Comment ten years after its issuance.

Authority: 36 CFR § 800.14(e).

Dated: April 7, 2006.
John M. Fowler,
Executive Director.

[FR Doc. 06-3508 Filed 4-1-06; 8:45 am]

BILLING CODE 4310-K6-M